FEDERAL COMMUNICATIONS COMMISSION

Sunshine Act Meeting Change in Date of Open Commission Meeting to Monday, October 31, 2005

October 28, 2005.

The Federal Communications Commission previously announced on October 21, 2005, its intention to hold an Open Meeting on Friday, October 28, 2005, in Room TW-C305, at 445 12th Street, SW., Washington, DC.

The date has been changed to Monday, October 31, 2005, commencing at 11 a.m.

The prompt and orderly conduct of Commission business required this change and no earlier announcement was possible.

Additional information concerning this meeting may be obtained from Audrey Spivack or David Fiske, Office of Media Relations, (202) 418-0500; TTY 1-888-835-5322.

Federal Communications Commission.
William F. Caton,
Deputy Secretary.

[FR Doc. 05-22051 Filed 11-1-05; 1:53 pm]

BILLING CODE 6712-01-P